DEPARTMENT OF AGRICULTURE

Submission for OMB Review; Comment Request

June 20, 2008.

The Department of Agriculture has submitted the following information collection requirement(s) to OMB for review and clearance under the Paperwork Reduction Act of 1995, Public Law 104-13. Comments regarding: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Forest Products Free Use Permit, Forest Products Removal Permit and Cash Receipt, and Forest Products Sale Permit and Cash Receipt.

OMB Control Number: 0596-0085.

Summary of Collection: Individuals and businesses that wish to remove forest products from national forest lands must request a permit. 16 U.S.C. 551 requires the promulgation of regulations to regulate forest use and prevent destruction of the forests. Regulations at 36 CFR 223.1 and 223.2 govern the sale of forest products such as Christmas trees, pinecones, moss, and mushrooms. Regulations at 36 CFR 223.5 through 223.11 authorize the free use or sale of timber or forest products. Upon receiving a permit, the permittee must comply with the terms of the permit at 36 CFR 216.6 that designate the forest products that can be harvested and under what conditions, such as limiting harvest to a designated area or permitting harvest of only specifically designated material.

Both the Forest Service (FS) and Department of the Interior, Bureau of Land Management (BLM) will use the Forest Products Removal Permit and Cash Receipt to collect information.

Need and Use of the Information: Using forms FS-2400-1/BLM-5450-24, FS-2400-4 and FS-2400-8, FS and BLM will collect the name, address and tax identification number from persons applying for permits. The information will be used to keep a record of persons buying forest products and to determine if the applicant meets the criteria under which free use or sale of forest products is authorized by the regulations and to ensure that the permittee has not received product values in excess of the amount allowed by regulation in any one fiscal year and complies with the regulations and terms of the permit. This information is also needed to allow FS compliance personnel to identify permittees in the field. Without the forest product removal program, achieving multiple use management programs such as reducing fire hazard and improving forest health on the National Forest would be impaired.

Description of Respondents: Individuals or households; businesses or other for-profit.

Number of Respondents: 139,067.

Frequency of Responses: Reporting: On occasion; Recordkeeping.

Total Burden Hours: 18,395.

Charlene Parker,
Departmental Information Collection Clearance Officer.

[FR Doc. E8-14426 Filed 6-25-08; 8:45 am]

BILLING CODE 3410-11-P